Proclamation 10147 of February 3, 2021

National Teen Dating Violence Awareness and Prevention Month, 2021

By the President of the United States of America

A Proclamation

This February, during National Teen Dating Violence Awareness and Prevention Month, we stand with those who have known the pain and isolation of an abusive relationship, and we recommit to ending the cycle of teen dating violence that affects too many of our young people.

Together, it's on all of us to raise the national awareness about teen dating violence and promote safe and healthy relationships.

Dating violence transcends gender, race, religion, ethnicity, sexual orientation, and socioeconomic status. It takes many forms, among them physical, sexual, and emotional abuse, bullying, and shaming, which can occur in person or through electronic communication and social media. The spiral of violent dating relationships can lead to depression, anxiety, drug and alcohol use, as well as suicidal thoughts. Victims, especially young women, transgender, and gender nonconforming youth who face higher rates of violence, may suffer lifelong consequences. Many young people do not report the abuse for fear of retribution or unwarranted embarrassment. The pattern of abuse often continues to future relationships.

My Administration encourages all Americans to lead by example by promoting healthy relationships, protecting our teens from abuse, and ensuring they have access to good help and support.

If you or someone you know is involved in an abusive relationship of any kind, immediate and confidential support is available by visiting loveisrespect.org, calling 1-866-331-9474 (TTY: 1-800-787-3224), or texting “loveis” to 22522. For additional information and resources on dating violence, please visit VetoViolence.CDC.gov.

NOW, THEREFORE, I, JOSEPH R. BIDEN JR., President of the United States of America, by virtue of the authority vested in me by the Constitution and the laws of the United States, do hereby proclaim February 2021 as National Teen Dating Violence Awareness and Prevention Month. I call upon all Americans to support efforts in their communities and schools, and in their own families, to empower young people to develop healthy relationships throughout their lives and to prevent and respond to teen dating violence. It's on all of us.

IN WITNESS WHEREOF, I have hereunto set my hand this third day of February, in the year of our Lord two thousand twenty-one, and of the Independence of the United States of America the two hundred and forty-fifth.

[FR Doc. 2021-02677

Filed 2-5-21; 8:45 am]

Billing code 3295-F1-P